DEPARTMENT OF ENERGY

Federal Energy Regulatory Commission

[Docket No. RM05-32-000]

Repeal of the Public Utility Holding Company Act of 1935 and Enactment of the Public Utility Holding Company Act of 2005; Notice of Additional Guidelines for Filings Under the Public Utility Holding Company Act of 2005

February 9, 2006.

On January 13, 2006, the Commission issued notice of new docket prefixes “HC” and “PF” for certain filings under the Public Utility Holding Company Act of 2005. The notice included filing guidelines for most holding company filings, but did not include guidelines for filing the Securities and Exchange Commission (SEC)-Related Financing Authorization Orders or Letters/Reports/Other Submissions (18 CFR 366.6(b)). Notice is hereby given that the filing guidelines have been revised to include guidelines for filing the SEC-related authorizations.

The revised guidelines apply to:

1. FERC-65: Notification of Holding Company Status (18 CFR 366.4(a))

2. FERC-65A: Exemption Notification (18 CFR 366.4(b)(1))

3. FERC-65B: Waiver Notification (18 CFR 366.4(c)(1))

4. SEC-Related Financing Authorization Orders or Letters/Reports/Other Submissions (18 CFR 366.6(b))

The SEC-related financing authorization orders or letters/reports/other submissions should be submitted using the Commission's eFiling system under Docket Number HC06-2-000. Do not use Docket Number HC06-1-000; that docket is reserved for Notifications of Holding Company Status.

The guidelines are attached to this notice and are also available on the Commission's Web site at http://www.ferc.gov/help/how-to.asp.

Magalie R. Salas,
Secretary.

Filing Guidelines for Holding Company Filings Under the Public Utility Holding Company Act of 2005 and 18 CFR Part 366

This document contains the guidelines for the following filings pursuant to the Public Utility Holding Company Act of 2005 and Commission Order No. 667, issued December 8, 2005:

(1) FERC-65, Notification of Holding Company Status (18 CFR 366.4(a))

(2) FERC-65A, Exemption Notification (18 CFR 366.4(b))

(3) FERC-65B, Waiver Notification (18 CFR 366.4(c)), and

(4) SEC Financing Authorization Orders or Letters/Reports/Other Submissions (18 CFR 366.6(b))

FERC-65, FERC-65A, and FERC-65-B refer to FERC reporting designations and do not represent actual forms.

FERC-65, Notification of Holding Company Status (18 CFR 366.4(a))

Companies that are holding companies as of February, 8, 2006, shall notify the Commission of their status as a holding company no later than March 10, 2006. Holding companies formed after February 8, 2006, shall notify the Commission of their status no later than 30 days after their formation.

These notification filings should be submitted using the Commission's eFiling system. Do not include waiver or exemption notifications with these filings. The document you submit should include HC06-1-000 in the caption or heading of the document for any notification filed on or before September 30, 2006. During the eFiling submission process:

1. Select the filing type “Production of Document.”

2. On the Select Docket screen, enter HC06-1 in the docket number search block and select HC06-1-000 from the results.

3. Before you browse, select, and attach the file, make sure that the file name is less than 25 characters and contains no spaces or special characters.

4. On the Submission Description screen, edit the description by replacing “Production of Document” with “Notification of Holding Company Status.”

If you are unable to file electronically, you must submit an original and 14 paper copies of the filing to the address in the following section on FERC-65A and FERC-65B. It is not necessary to include a form of notice for the Federal Register.

FERC-65A (Exemption Notification) (18 CFR 366.4(b)); FERC-65B (Waiver Notification) (18 CFR 366.4(c))

These filings must be submitted on paper at this time. The document you submit should include PH06-__-000 in the caption or heading of the document, for filings made on or before September 30, 2006.

Submit an original and 14 copies of all “PH” filings, with a form of notice of the “PH” filing suitable for publication in the Federal Register on a 3½” diskette, to Magalie R. Salas, Secretary, Federal Energy Regulatory Commission, 888 First Street, NE., Washington, DC 20426.

Forms of notice for “PH” exemption and waiver requests are available on the Commission's Web site at http://www.ferc.gov/docs-filing/not-form.asp.

Please be advised that the United States Postal Service scans all documents addressed to the Commission with a heat-treatment process that may corrupt diskettes and render filings unusable. You are recommended to use express mail or courier delivery services.

SEC-Related Financing Authorization Orders or Letters/Reports/Other Submissions (18 CFR 366.6(b))

Holding companies that intend to rely on financing authorization orders or letters issued by the Securities and Exchange Commission (SEC), or that submitted reports or other submissions previously with the SEC and that now must file with the Commission, must file these orders, letters, reports or other submissions with the Commission by March 10, 2006.

These filings should be submitted using the Commission's eFiling system, provided that the entire content of the filing is in the public domain. Do not include filings under any other section with the authorization orders. The document you submit should include HC06-2-000 (Note—do not use HC06-1-000 for such submittals) in the caption or heading of the document, for filings made on or before September 30, 2006. During the eFiling submission process:

1. Select the filing type “Production of Document.”

2. On the Select Docket screen, enter HC06-2 in the docket number search block and select HC06-2-000 from the results.

3. Before you browse, select, and attach the file, make sure that the file name is less than 25 characters and contains no spaces or special characters.

4. On the Submission Description screen, edit the description by replacing “Production of Document” with “SEC Financing Authorization Order/Letter”.

If you are unable to file electronically, you must submit an original and 14 paper copies of the filing to the address in the above section on FERC-65A and FERC-65B. It is not necessary to include a form of notice for the Federal Register.

[FR Doc. E6-2244 Filed 2-16-06; 8:45 am]

BILLING CODE 6717-01-P